DEPARTMENT OF DEFENSE

Office of the Secretary

[Transmittal No. 18-41]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(1) arms sales notification is published to fulfill the requirements of section 155 of Public Law 104-164 dated July 21, 1996. The following is a copy of a letter to the Speaker of the House of Representatives, Transmittal 18-41 with attached Policy Justification and Sensitivity of Technology.

Dated: November 2, 2018.
Aaron T. Siegel,
Alternate OSD Federal Register Liaison Officer, Department of Defense.

Transmittal No. 18-41

Notice of Proposed Issuance of Letter of Offer Pursuant to Section 36(b)(1) of the Arms Export Control Act, as amended

(i) Prospective Purchaser: Government of Iraq

(ii) Total Estimated Value:

Major Defense Equipment * | $00.20 million
Other | $82.30 million
Total | $82.50 million

(iii) Description and Quantity or Quantities of Articles or Services under Consideration for Purchase: Five (5) Armed Bell 407GX Helicopters configured with the following equipment:

Major Defense Equipment (MDE): Five (5) M240 7.62mm Machine Guns

Non-MDE: Also included are five (5) RF-7850A Secure Communications Radios, five (5) AN/AAR-60 MILDS Automatic Plume Detectors, five (5) AN/ALE-47 Airborne Countermeasure Dispensing Systems, five (5) M3P .50 Caliber Machine Guns, five (5) M260 Rocket Launchers (APKWS Configuration), five (5) MX-15Di EO/IR Sensors, five (5) GAU-19 .50 Caliber Machine Guns, five (5) Pathfinder Mission Management Systems, five (5) ARES Weapon Management Systems, five (5) Mission Configurable Armament Systems (MCAS), night vision compatible lighting systems, aircraft intercommunications systems (ICS), cockpit and seat armor kits, and bifurcated exhaust infrared suppressor systems, operating manuals, spare parts, maintenance and operator training for radio systems, technical and logistics support services, and other related elements of logistical and program support.

(iv) Military Department: Army (IQ-B-AEA)

(v) Prior Related Cases, if any: IQ-B-VPN

(vi) Sales Commission, Fee, etc., Paid, Offered, or Agreed to be Paid: None

(vii) Sensitivity of Technology Contained in the Defense Article or Defense Services Proposed to be Sold: See Attached Annex

(viii) Date Report Delivered to Congress: October 3, 2018

* As defined in Section 47(6) of the Arms Export Control Act.

Iraq—Armed Bell 407GX Helicopters

The Government of Iraq has requested to buy five (5) Armed Bell 407GX helicopters configured with five (5) M240 7.62mm Machine Guns. Also included are five (5) RF-7850A Secure Communications Radios, five (5) AN/AAR-60 MILDS Automatic Plume Detectors, five (5) AN/ALE-47 Airborne Countermeasure Dispensing Systems, five (5) M3P .50 Caliber Machine Guns, five (5) M260 Rocket Launchers (APKWS Configuration), five (5) MX-15Di EO/IR Sensors, five (5) GAU-19 .50 Caliber Machine Guns, five (5) Pathfinder Mission Management Systems, five (5) ARES Weapon Management Systems, five (5) Mission Configurable Armament Systems (MCAS), night vision compatible lighting systems, aircraft intercommunications systems (ICS), cockpit and seat armor kits, and bifurcated exhaust infrared suppressor systems, operating manuals, spare parts, maintenance and operator training for radio systems, technical and logistics support services, and other related elements of logistical and program support. The total estimated program cost is $82.5 million.

This proposed sale will support the foreign policy and national security of the United States by helping to improve the security of a strategic partner. The addition of five Bell 407GX helicopters will help compensate for the combat loss of seven IA407 helicopters in recent years and increase the Iraqi Security Forces' combat effectiveness against ISIS and other terrorist elements in Iraq. The 407GX variant—an upgrade from the current IA407 configuration—includes Advanced Precision Kill Weapon System (APKWS) launchers. Providing Iraq with this capability supports U.S. security goals by furthering the Iraqi Army Aviation Command's ability to counter terrorism and protect critical infrastructure. Iraq will have no difficulty absorbing this equipment into its armed forces.

The proposed sale of this equipment and support will not alter the basic military balance in the region.

The principal contractors will be Bell, Fort Worth, TX; L3 WESCAM, Burlington, Ontario, Canada; Dillon, Scottsdale, AZ; Tekfusion Global, Williamsburg, VA; Harris, Melbourne, FL; and Fulcrum Concepts, Mattaponi, VA. There are no known offset agreements associated with this proposed sale.

Implementation of this proposed sale will require approximately 17 contractor representatives to travel to Iraq in support of this effort. The GOI desires Contractor Logistics Support (CLS) presence in country.

There will be no adverse impact on U.S. defense readiness as a result of this proposed sale.

Transmittal No. 18-41

Notice of Proposed Issuance of Letter of Offer Pursuant to Section 36(b)(1) of the Arms Export Control Act

Annex

Item No. vii

(vii) Sensitivity of Technology:

1. The Bell 407GX Multi-Role Helicopter weapon system contains communications and target identification equipment, navigation equipment, aircraft survivability equipment, displays, and sensors. The airframe itself does not contain sensitive technology, however the pertinent equipment listed below will be either installed on the aircraft or included in the sale:

a. The Harris Falcon III RF-7850A Secure Communication Radio is a Multi-Channel Airborne Networking Radio that offers multi-channel and multiband capabilities. It integrates into a wide variety of platforms to support multiple missions, waveforms and modes of operation and provides two wideband channels. The Harris Multi-channel Airborne Radio extends battlefield networks Beyond-Line-Of-Sight through tactical VHF/UHF networks to provide extended range and secure air-to-air and air-to-ground communications. The Harris Falcon III hardware is a commercial variant radio and the highest level of information that would be released in support of this transfer is at the UNCLASSIFIED level.

b. The AN/AAR-60 MILDS Automatic Plume Detector is a Missile Launch Detection System (MILDS)/Airborne Missile Protection System (AMPS) or AMPS-M and is based on the off-the-shelf product MILDS AN/AAR-60 UV-Sensor Units and features a MILDS Control and Display Unit (MCDU), an Inertial Measurement Unit (IMU) and Smart Dispensers (SD). The MILDS AMPS represents a complete Missile Protection System and will be used for stand alone installation and operation of an integrated missile warning and Counter Measures dispensing in helicopters. The highest level of information release in support of this transfer is at the UNCLASSIFIED level.

c. The M3P .50 Cal machine gun is a fully automatic .50 Cal (12.7x99mm NATO) machine gun specifically designed to be axially or coaxially mounted in pod or open-air gun configurations for airborne, land or sea weapon system applications. The M3P is a world exclusivity by FN Herstal and offers high firing rate for short time on target: 1,025 ± 75 RPM. The highest level of information release in support of this transfer is at the UNCLASSIFIED level.

d. The M260 Rocket Launcher with APKWS capability is a seven tube rocket launcher with a remote fuze setting function. Once the target is located, single or multiple pairs of the Hydra 70 APKWS folding-fin rockets can be launched toward the target when a predetermined time signal is sent to the electronic time fuze. The highest level of information release in support of this transfer is at the UNCLASSIFIED level.

e. The M240 is a general-purpose machine gun that uses 7.62 mm NATO ammunition. It can be mounted on a bipod, tripod, aircraft, or vehicle. The M240 is a belt-fed, air-cooled, gas- operated, fully automatic machine gun that fires from the open bolt position. The highest level of information release in support of this transfer is at the UNCLASSIFIED level.

f. The MX-15Di EO/IR sensor is a multi-sensor imaging/lasing that can provide medium-altitude; Covert Intelligence, Surveillance & Reconnaissance (ISR), Armed Reconnaissance, CSAR and Target Designation missions. MX-15Di has HD imaging resolution from Electro-Optical (EO) and Infrared (IR) cameras, Short-wave IR imaging, Laser rangefinder/designator 3 laser illuminator. The highest level of information release in support of this transfer is at the UNCLASSIFIED level.

g. The GAU-19 machine is a low-cost weapon system that is designed to accept standard NATO .50 caliber M9-linked ammunition with a rate of fire of 1300 rounds per minute. The weapon provides highly effective firepower against area suppression and point targets, as well as being ideally suited for utility, scout and attack helicopters. The highest level of information release in support of this transfer is at the UNCLASSIFIED level.

h. The Pathfinder Mission Management System (MMS) is a modular customizable system that provides command and control of onboard navigation, communication, and peripheral electronic equipment. During target engagements, locations and range to target is passed from Pathfinder to the weapons management system. The highest level of information release in support of this transfer is at the UNCLASSIFIED level.

i. The ARES Weapons Management System (WMS) is a modular weapons management system that uses the aircraft's EO/IR monitor as the WMS interface using a touchscreen graphical user interface (GUI). The system is fully integrated with the MX-15Di sensors critical EO/IR functions that can be controlled through the user interface. The system provides aircraft steering commands and targeting overlays to guide the pilot into the proper launch constraints by consolidating mission execution tasks. The highest level of information release in support of this transfer is at the UNCLASSIFIED level.

j. The Mission Configurable Armament System (MCAS) is a plank type weapons mounting system. The MCAS was developed as a lightweight, high strength, multi-purpose, multi-airframe weapons platform utilizing up to 6 weapon stations. The highest level of information release in support of this transfer is at the UNCLASSIFIED level.

k. The AN/ALE-47 is a software reprogrammable dispenser for chaff and flares. It provides for either automatic or aircrew commanded response dispense capabilities. Specific dispense routines are sensitive and are specifically withheld from Iraq. The export version uses a country unique “look-up decision tree” for determining dispense routines. This software when loaded into the AN/ALE-47 is classified CONFIDENTIAL. Increased risk of exploitation is significantly reduced given that the software is in executable form only (i.e. binary code) and the actual dispense routines can be gained through visual observation, which is true for all coalition platforms flying in Iraq.

2. If a technologically advanced adversary obtained knowledge of the specific hardware or software in the proposed sale, the information could be used to develop counter-measures which might reduce weapons system effectiveness or be used in the development of a system with similar or advanced capabilities.

3. A determination has been made that the recipient government can provide substantially the same degree of protection for the technology being released as the U.S. Government. This sale supports the U.S. foreign policy and national security objectives as outlined in the Policy Justification.

4. All defense articles and services listed in this transmittal have been authorized for release and export to the Government of Iraq.

[FR Doc. 2018-24410 Filed 11-7-18; 8:45 am]

BILLING CODE 5001-06-P